DEPARTMENT OF THE INTERIOR

National Park Service

Notice of Inventory Completion: American Museum of Natural History, New York, NY

AGENCY: National Park Service, Interior.

ACTION: Notice.

Notice is here given in accordance with the Native American Graves Protection and Repatriation Act (NAGPRA), 25 U.S.C. 3003, of the completion of an inventory of human remains and associated funerary objects in the possession of the American Museum of Natural History, New York, NY. The human remains were removed from San Miguel County, NM.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by American Museum of Natural History professional staff in consultation with representatives of the Hopi Tribe of Arizona; Pueblo of Cochiti, New Mexico; Pueblo of Jemez, New Mexico; Pueblo of Picuris, New Mexico; Pueblo of Pojoaque, New Mexico; Pueblo of San Felipe, New Mexico; and Pueblo of Santo Domingo, New Mexico.

Between 1914 and 1916, human remains representing nine individuals were removed from the Pecos Pueblo, Pecos Valley, San Miguel County, NM, by Mr. A.V. Kidder while he was working for Phillips Academy, Andover, MA. The human remains were donated to the Peabody Museum of Archaeology and Ethnology, Harvard University, in 1919. The American Museum of Natural History acquired the human remains in 1932 through an exchange with the Peabody Museum of Archaeology and Ethnology. No known individuals were identified. Four associated funerary objects, which are not in the possession of the American Museum of Natural History, are documented as one obsidian projectile point, one scraper, one bone awl, and one worked sherd.

The human remains have been identified as Native American based on burial practice, nature of funerary objects, and provenience. The human remains date to both the pre- and postcontact periods. In 1838, Pecos Pueblo was abandoned, and the 17 to 20 survivors migrated to Jemez Pueblo. Mr. Kidder noted in 1958 that people at Santo Domingo, Cochiti, and San Felipe claim Pecos ancestry and that these groups may represent migrations prior to the final abandonment of Pecos. Consultants from the three pueblos have not confirmed Mr. Kidder's statement, but some have referred to “historical connections” in some cases. Pueblo of Jemez, New Mexico representatives have indicated that many individuals there claim ancestry to Pecos. Some people at Pueblo of Jemez, New Mexico still speak the Pecos language. A Pecos governor has been selected there, and he holds the Pecos cane of office. Descendants of Pecos Pueblo still hold ceremonies that were brought to Jemez by the original Pecos survivors.

Officials of the American Museum of Natural History have determined that, pursuant to 25 U.S.C. 3001 (9-10), the human remains described above represent the physical remains of nine individuals of Native American ancestry. Officials of the American Museum of Natural History also have determined that, pursuant to 25 U.S.C. 3001 (2), there is a relationship of shared group identity that can be reasonably traced between the Native American human remains and the Pueblo of Jemez, New Mexico.

Representatives of any other Indian tribe that believes itself to be culturally affiliated with the human remains should contact Nell Murphy, Director of Cultural Resources, American Museum of Natural History, Central Park West at 79th Street, New York, NY 10024-5192, telephone (212) 769-5837, before October 14, 2004. Repatriation of the human remains to the Pueblo of Jemez, New Mexico may proceed after that date if no additional claimants come forward.

The American Museum of Natural History is responsible for notifying the Hopi Tribe of Arizona; Pueblo of Cochiti, New Mexico; Pueblo of Jemez, New Mexico; Pueblo of Picuris, New Mexico; Pueblo of Pojoaque, New Mexico; Pueblo of San Felipe, New Mexico; and Pueblo of Santo Domingo, New Mexico that this notice has been published.

Dated: August 3, 2004.
Sherry Hutt,
Manager, National NAGPRA Program.

[FR Doc. 04-20655 Filed 9-13-04; 8:45 am]

BILLING CODE 4312-50-S